DEPARTMENT OF TRANSPORTATION

Federal Railroad Administration

Intercity Passenger Rail Grade Crossing Improvements, Positive Train Control Implementation, and Passenger Rail Corridor Investment Plan Grant Funds

AGENCY: Federal Railroad Administration (FRA), Department of Transportation (DOT).

ACTION: Notice of funding availability.

SUMMARY: This notice details the application requirements and procedures for obtaining funding for eligible intercity passenger rail grade crossing improvement projects, positive train control implementation projects, and Passenger Rail Corridor Investment Plan projects. The opportunities described in this notice are available under Catalog of Federal Domestic Assistance (CFDA) number 20.314, “Railroad Development.”

DATES: Applications for funding under this solicitation are due no later than 5:00 p.m. EDT, September 15, 2014. Applications for funding received after 5:00 p.m. EDT on September 15, 2014 will not be considered. See Section 4 of this notice for additional information regarding the application process.

ADDRESSES: Applications must be submitted via Grants.gov. For any required or supporting application materials that an applicant is unable to submit via Grants.gov (such as oversized engineering drawings), an applicant may submit an original and two (2) copies to Mary Ann Mcnamara, Office of Program Delivery, Federal Railroad Administration, 1200 New Jersey Avenue SE, Mail Stop 20, Washington, DC 20590. However, due to delays caused by enhanced screening of mail delivered via the U.S. Postal Service, applicants are advised to use other means of conveyance (such as courier service) to assure timely receipt of materials.

FOR FURTHER INFORMATION CONTACT: For further information regarding this notice, please contact Mary Ann McNamara, Office of Program Delivery, Federal Railroad Administration, 1200 New Jersey Avenue SE., Mail Stop 20, Washington, DC 20590; Email: maryann.mcnamara@dot.gov; Phone: (202) 493-6393; Fax: (202) 493-6333.

SUPPLEMENTARY INFORMATION:

Notice to applicants: The FRA recommends applicants read this notice in its entirety prior to preparing application materials. There are several administrative prerequisites described herein that applicants must comply with in order to submit an application, as well as application requirements that may differ depending on the type of project and funding sought. The FRA has also established the FY14 Grant Application Solicitation homepage on the FRA Web site, which houses certain required application materials and additional guidance for topics referenced in this notice. The FY14 Grant Application Solicitation homepage is located at www.fra.dot.gov/Page/P0701.

Additionally, applicants should note that the required Project Narrative component of the application package may not exceed 25 pages in length (including any appendices).

Table of Contents:

1. Funding Opportunity Description

2. Award Information

3. Eligibility and Review Criteria

4. Application and Submission Information

5. Award Administration Information

6. Agency Contact

Section 1: Funding Opportunity Description

1.1 Background

The purpose of this notice is to solicit applications for eligible intercity passenger rail grade crossing improvement projects, positive train control implementation projects, and Passenger Rail Corridor Investment Plan projects. The funding available under this solicitation was appropriated by Congress over a period of several years. Most recently, the Consolidated Appropriations Act, 2014 (FY14 Omnibus, Pub. L. 113-76, January 17, 2014) made available $41,827,500 in unobligated funding originally authorized under the Safe, Accountable, Flexible, Efficient Transportation Equity Act: A Legacy for Users (SAFETEA-LU, Pub. L. 109-59, August 10, 2005; and later amended under the SAFETEA-LU Technical Corrections Act, Pub. L. 110-244, June 6, 2008) and originally appropriated under the Consolidated Appropriations Act, 2008 (Pub. L. 110-161, December 26, 2007) and Omnibus Appropriations Act, 2009 (Pub. L. 111-8, March 11, 2009). FRA is also making available at least $16,500,000 in additional unobligated funds previously appropriated to FRA under its High-Speed Intercity Passenger Rail (HSIPR) Program. These unobligated funds are available due to projects that were completed under budget or that were not completed as originally anticipated. This notice is also intended to establish a pool of applications that could receive any additional eligible funding that may become available under similar circumstances in the near future.

1.2 FRA-Led Multi-State Planning

In addition to the funding opportunities described in this notice, the FY14 Omnibus also permits the Secretary of Transportation to retain a portion of the $41,827,500 in previous SAFETEA-LU funds to facilitate—at the Federal level—the preparation of planning documents for passenger rail corridors and networks located in multiple states. The Secretary of Transportation has exercised this authority to provide $22,000,000 to complete the Department's NEC FUTURE program, which is a comprehensive planning effort to define, evaluate, and prioritize future high-speed rail investments along the Northeast Corridor (additional information regarding NEC FUTURE is available at www.NECFUTURE.com). In addition to NEC FUTURE, the FRA is soliciting statements of interest from other groups of states that wish to participate in an FRA-led planning process for multi-state passenger rail networks. Additional information on this FRA-led planning process, including how to submit statements of interest, is available at www.fra.dot.gov/Page/P0021.

1.3 Funding Approach

In total, at least $36,327,500 is available for awards under this solicitation. The following table summarizes the amount of funding available per funding source, as well as the eligible project categories and match requirements. Section 3 of this notice provides detailed information and instructions pertaining to applicant and project eligibility, cost sharing and match requirements, and application review criteria.

Program/funding source | Amount available | Eligible project categories | Required federal/non-federal match percentage
New FY14 Omnibus Authority | $19,827,500 | • Intercity Passenger Rail Capital | 80-20.
|  | • Railroad Safety Technology
|  | • High-Speed Rail Corridor Planning
|  | • FRA-Led Multi-State Planning¹ | (100 percent Federal for FRA-Led Planning).
Remaining FY10 HSIPR | $5,200,000 | • Intercity Passenger Rail Capital | 80-20
Remaining FY08/FY09 HSIPR | $11,300,000 | • Intercity Passenger Rail Capital | 50-50
Total | 36,327,500

As the table above indicates, and unlike the remaining FY08, FY09, and FY10 HSIPR Program funding, the $19,827,500 made available by the FY14 Omnibus may fund multiple project types—intercity passenger rail capital (49 U.S.C. 24401(2)(A)), railroad safety technology (49 U.S.C. 20158), high-speed rail corridor planning (49 U.S.C. 26101(b)), and FRA-led multi-state planning (FY14 Omnibus). Subject to the type and quality of applications received, the FRA intends to award/allocate the funding made available by the FY14 Omnibus to projects under each of the eligible project types. However, the FRA is not predetermining specific dollar allocations among these project types.

¹ Statements of interest for FRA-led multi-state planning are being requested separately and will not be accepted or considered through this solicitation. Additional information on this FRA-led planning process, including how to submit statements of interest, is available at www.fra.dot.gov/Page/P0021.

In order to maximize the benefits of the amount of funding available, the FRA is choosing to further focus the broad project eligibilities allowed for under the appropriations acts to specific project types that align with FRA's current mission and objectives. Applications for projects under the “intercity passenger rail capital” category should focus on grade crossing improvement projects related to intercity passenger rail service; applications for projects under the “railroad safety technology” category should focus on positive train control (PTC) implementation projects; and applications for projects under the “high-speed rail corridor planning” category should focus on developing new or expanded Passenger Rail Corridor Investment Plans. Additional information of these more focused project types is contained in Section 3 of this notice and on the FY14 Grant Application Solicitation homepage at www.fra.dot.gov/Page/P0701.

1.4 Legislative Authority

The funding made available under this notice was appropriated from the following sources:

• Consolidated Appropriations Act, 2008 (Pub. L. 110-161, December 26, 2007);

• Omnibus Appropriations Act, 2009 (Pub. L. 111-8, March 11, 2009);

• Consolidated Appropriations Act, 2010 (Pub. L. 111-117, December 16, 2009); and

• Consolidated Appropriations Act, 2014 (Pub. L. 113-76, January 17, 2014).

The activities under the FY10 and FY14 funding are authorized by the Passenger Rail Investment and Improvement Act, 2008 (Pub. L. 110-432, October, 16, 2008). The activities under the FY08 and FY09 funding are authorized through their respective appropriations acts and do not have any underlying statutory authorization.

Section 2: Award Information

2.1 Application Limits

The FRA anticipates making multiple awards from the funding made available in this notice and is not predetermining any minimum or maximum dollar amounts for awards. However, given the relatively limited amount of funding that is currently available, applicants are encouraged to constrain their Federal funding requests to a maximum of $3,000,000 per application. While this $3,000,000 application limit is a recommendation and not a firm requirement, applications exceeding this $3,000,000 threshold must explain why any requested funding over $3,000,000 is necessary to implement the proposed project. Applicants for grade crossing projects in particular are advised to subdivide higher-cost undertakings into separate project components or discrete phases that demonstrate operational independence and public benefits in order to give FRA maximum flexibility in selecting projects or project components. Additionally, the FRA may choose to award a grant for less than the amount requested in the application.

FRA will make awards for projects selected under this notice through cooperative agreements. Cooperative agreements allow for greater Federal involvement in carrying out the agreed upon investment, including technical assistance, review of interim work products, and increased program oversight. The funding provided under these cooperative agreements will be made available to grantees on a reimbursable basis.

2.2 Application Review Process

Applications will proceed through a three-part review process:

1. Screening for completeness and eligibility;

2. Evaluation of eligible applications by technical panels applying the evaluation criteria; and

3. Project selection by the FRA Administrator applying additional selection criteria.

Each application will first be screened for eligibility (requirements outlined in Section 3 of this notice) and completeness (containing all required documentation outlined in Section 4 of this notice).

Eligible and complete applications will then be evaluated by technical panels consisting of subject-matter experts against the evaluation criteria (outlined in Section 3 of this notice). The FRA will not assign specific numerical scores to applications based on the evaluation criteria. Rather, ratings of “highly recommended,” “recommended,” “acceptable,” or “not recommended” will be assigned for each evaluation criterion upon which the applications are being reviewed.

The ratings assigned by the technical panels will not in themselves constitute the final award determination, as this is only the second step in the review process. All eligible and complete applications, regardless of the ratings they receive from the technical panels, will be advanced to the FRA Administrator for funding consideration. The FRA Administrator will also take into consideration several cross-cutting and comparative selection criteria (see Section 3.4 of this notice) to determine awards. The FRA will award funds to projects that are well-aligned with one or more of the evaluation and selection criteria. In addition, FRA will consider whether a project has a negative effect on any of the evaluation and selection criteria, and any such negative effect may reduce the likelihood that the project will be selected for award.

Section 3: Eligibility and Review Criteria

This notice solicits applications for three distinct project types, with funding appropriated from several sources. As such, there are varying minimum requirements that applications must meet related to applicant eligibility, project eligibility, cost sharing, and the fulfillment of other prerequisites. The differences among the three project types also necessitate that they be reviewed against separate evaluation criteria. Section 3.1 of this notice will cover the eligibility and review requirements for intercity passenger rail grade crossing improvement projects, Section 3.2 for positive train control implementation projects, and Section 3.3 for Passenger Rail Corridor Investment Plan projects. Section 3.4 of this notice will cover the additional selection criteria that will be applied to all applications by the FRA Administrator.

3.1 Intercity Passenger Rail Grade Crossing Improvement Projects

3.1.1 Applicant Eligibility

The following entities are eligible applicants for intercity passenger rail grade crossing improvement projects:

• States (including the District of Columbia);

• Groups of States;

• Interstate compacts; and

• Public agencies established by one or more States and having responsibility for providing intercity passenger rail service.

3.1.2 Project Eligibility

Eligible grade crossing projects must involve capital improvements to highway-rail grade crossings that are related to intercity passenger rail service. Applicants must demonstrate that a proposed project is both a capital improvement to a highway-rail grade crossing and that the project improves intercity passenger rail service. The following is a non-exhaustive list of eligible grade crossing projects:

• Safety and/or operational improvements at public or private grade crossings;

• Installation of or upgrades to crossing signal equipment;

• Crossing closures;

• Grade separations;

• Pedestrian crossing improvements;

• Track circuitry improvements to activate warning devices;

• Integration of crossing warning systems with advanced train control, signal preemption, and intelligent highway traffic control systems; and

• Other civil or utility projects that improve crossing surfaces, lighting, and sight distance.

3.1.3 Non-Federal Match Requirements and Other Funding Restrictions

As outlined in Section 1.3 of this notice, intercity passenger rail grade crossing projects are eligible to be funded from three separate sources of funding. Both the $19,827,500 made available by the FY14 Omnibus and the $5,200,000 in remaining FY10 HSIPR Program funding allow for up to an 80 percent Federal share of project costs. However, the remaining $11,300,000 in FY08/FY09 HSIPR Program funding limits the Federal share of project costs to 50 percent. The required 20 percent or 50 percent non-Federal match, depending on the funding source, may be composed of public sector (state or local) or private sector funding. However, the FRA cannot consider any other Federal funds, nor any non-Federal funds already expended (or otherwise encumbered), towards the matching requirement. Additionally, FRA is limiting the method for calculating the non-Federal match to cash contributions only—“in-kind” contributions will not be accepted. Matching funds provided in excess of the minimum requirements will be considered in evaluating the merit of an application.

Applicants that propose a 50 percent non-Federal match will be more likely to have their applications selected for funding, as they will be eligible to receive funding under each of the three funding sources contained in this notice (and specifically the $11,300,000 in 50-50 match funding that is dedicated to grade crossing projects). However, these 50-50 match funds contain three eligibility restrictions that differ from the 80-20 match funds:

• States are the only eligible applicant type;

• Proposed projects must be specifically included in the applicant's Statewide Transportation Improvement Program (STIP) at the time of application to be eligible; and

• States must include intercity passenger rail services as an integral part of statewide transportation planning as required under 23 U.S.C. 135.

3.1.4 Evaluation Criteria

The FRA intends to award funds to grade crossing projects that achieve the maximum public benefits possible, given the amount of funding available. Analysis provided by applicants that quantifies the monetary value (whenever possible) of the anticipated public benefits of the proposed project will be particularly relevant to the FRA in evaluating applications.² The systematic process of comparing expected benefits and costs helps decision-makers organize information about, and evaluate trade-offs between, alternative transportation investments. The FRA will consider benefits and costs using standard data and qualitative information provided by applicants and will evaluate applications in a manner consistent with Executive Order 12893 (Principles for Federal Infrastructure Investments, 59 FR 4233), OMB Circular A-94 (Guidelines and Discount Rates for Benefit-Cost Analysis of Federal Programs), and OMB Circular A-4 (Regulatory Analysis).

² Applicants are encouraged to reference Sections 1 and 2 of the Transportation Investment Generating Economic Recovery (TIGER) Benefit-Cost Analysis Resource Guide for recommended values to use in monetizing benefits and costs of transportation projects. This Resource Guide was developed by the U.S. Department of Transportation for use in the TIGER Discretionary Grant program and can be located on the FY14 Application Solicitation homepage at www.fra.dot.gov/Page/P0701.

The FRA intends to analyze all grade crossing applications utilizing FRA's GradeDec tool to support the evaluation process. GradeDec is a web-based application and decision support tool intended for the identification and evaluation of highway-rail grade crossing upgrades, separations, and closures. The GradeDec tool was designed for the needs of Federal, state, and local authority decision makers, and employs benefit-cost methodologies to assess grade crossing investment alternatives at the corridor level or in a region. The modeling frameworks built into the GradeDec tool were developed by the FRA and include research findings from the Volpe National Transportation Systems Center and the National Cooperative Highway Research Program. Additional information on GradeDec is available at www.fra.dot.gov/Page/P0337.

Applications for intercity passenger rail grade crossing projects will be reviewed by panels of DOT subject-matter experts against the following three evaluation criteria.

Safety Benefits

The following factors will be considered in assessing a proposed project's achievement of safety benefits:

• The extent to which the proposed project will improve safety at a crossing or series of crossings where safety incidents have recently occurred or where a high potential exists for accidents between pedestrian and/or vehicle traffic and intercity passenger rail operations;

• Whether the proposed project will upgrade a crossing or a series of crossings to create a “sealed corridor” segment utilizing advanced warning technology, four-quadrant gates, or median separators—with preference to crossing closures;

• The proposed project's ability to foster a safe, connected, accessible transportation system for the multimodal movement of people and goods;

• The extent to which the proposed project conforms with FRA's “High-Speed Passenger Rail Safety Strategy” guidance that was published in November 2009 (http://www.fra.dot.gov/eLib/Details/L03624); and

• Where applicable, the extent to which the proposed project will improve the safety of transporting energy products on rail routes over which both intercity passenger rail and freight rail services operate.

Transportation Benefits

The following factors will be considered in assessing a proposed project's achievement of non-safety related transportation benefits:

• The extent to which the proposed project contributes to other improvements to intercity passenger rail operations, as reflected by estimated increases in operational reliability and on-time performance, increases in average and/or top operating speeds, increases in ridership, reductions in trip times, additional service frequencies, and other related factors;

• The extent to which a proposed project generates cross-modal benefits for commuter rail, freight rail (including ports served by freight rail), or highway operations and safety;

• The extent to which a proposed project benefits a “state-supported” intercity passenger rail service and enables state sponsors and their partners to invest in additional capital projects; and

• The extent to which the proposed project will mitigate mobility and access barriers for all modes of transportation—including bicycle and pedestrian enhancements—and better connect communities to centers of employment, education, and services (including for non-drivers) and that hold promise to stimulate long-term job growth, especially in economically distressed areas.

Project Development Approach

The following factors will be considered in assessing how the proposed project was planned and developed to date:

• The applicant's progress, at the time of application, in reaching compliance with the National Environmental Policy Act (NEPA) for the proposed project. Although a NEPA decision document (Record of Decision, Finding of No Significant Impact, Categorical Exclusion determination) is not required at the time of application, projects that utilize innovative project delivery approaches to expedite NEPA or are accompanied by a final NEPA determination will be looked upon favorably during the evaluation and selection process;

• The proposed project's consistency with an adopted service development plan and state rail plan;

• The quality and completeness of the proposed project's Statement of Work, including whether a sufficient level of detail regarding scope, schedule, and budget is provided to immediately advance the project to award;

• The level of support demonstrated for the application and proposed project from key project partners (letters of support are encouraged), including the infrastructure owning railroad, railroad operator, local governments, and other relevant stakeholders;

• The equitable financial participation from benefiting entities in the project's financing;

• The applicant's financial, legal, and technical capacity to implement the project; and

• Whether the engineering materials submitted with the application are of sufficient quality to assess the proposed project's design and constructability risks.

3.2 Positive Train Control Implementation Projects

3.2.1 Applicant Eligibility

The following entities are eligible applicants for positive train control implementation projects:

• Passenger and freight railroad carriers;

• Railroad suppliers; and

• State and local governments.

To be eligible for assistance, the above entities must have either received approval of the Technology Implementation Plans (TIP) and Positive Train Control Implementation Plans (PTCIP) required by 49 U.S.C. 20156(e)(2) and 20157, or demonstrate to the satisfaction of the FRA that they are currently developing the required plans where applicable. Preference will be given in the following order:

1. Entities that have completed and received FRA approval of both their TIP and PTCIP.

2. Entities that have completed and received FRA approval of their PTCIP.

3. Entities that have submitted their PTCIP to FRA for approval.

4. Entities that have certified to FRA progress towards completion of their PTCIP and TIP.

5. All other eligible entities.

Collaborative project submissions by freight and passenger carriers, suppliers, and State and local governments on eligible projects will be evaluated more favorably.

3.2.2 Project Eligibility

The FRA is soliciting applications for projects that will benefit the overall implementation of positive train control on freight, intercity passenger, and commuter railroads. Given that the amount of funding available is not likely sufficient to cover the costs necessary to deploy positive train control on any given railroad, applications should focus on the research and development of technologies that will lower the costs, speed implementation, increase interoperability, and improve the reliability of positive train control systems.

The FRA is particularly interested in advancing research and development on the following topics related to positive train control: cybersecurity and wireless communications security, back-office reliability, and deployment of an Interoperable Train Control Messaging (ITCM/ITCSM) shared network for short lines and commuter railroads. Additional information on these suggested topic areas are located on the FY14 Application Solicitation homepage at www.fra.dot.gov/Page/P0701. Applicants should note that these topics represent suggested areas of interest by the FRA, and any otherwise eligible applications meeting the criteria above will be evaluated and considered for award.

3.2.3 Non-Federal Match Requirements

The $19,827,500 made available by the FY14 Omnibus is the only source of funding contained in this notice under which positive train control implementation projects may be funded. The FY14 Omnibus allows for up to an 80 percent Federal share of project costs. The required 20 percent non-Federal match may be composed of public sector (state or local) or private sector funding. However, the FRA cannot consider any other Federal funds, nor any non-Federal funds already expended (or otherwise encumbered), towards the matching requirement. Additionally, FRA is limiting the method for calculating the non-Federal match to cash contributions only—“in-kind” contributions will not be accepted. Matching funds provided in excess of the minimum requirements will be considered in evaluating the merit of an application.

3.2.4 Evaluation and Selection Criteria

The FRA intends to award funds to positive train control implementation projects that achieve the maximum public benefits possible, given the amount of funding available. Analysis provided by applicants that quantifies the monetary value (whenever possible) of the anticipated public benefits of the proposed project will be particularly relevant to the FRA in evaluating applications.³ The systematic process of comparing expected benefits and costs helps decision-makers organize information about, and evaluate trade-offs between, alternative transportation investments. The FRA will consider benefits and costs using standard data and qualitative information provided by applicants and will evaluate applications in a manner consistent with Executive Order 12893 (Principles for Federal Infrastructure Investments, 59 FR 4233), OMB Circular A-94 (Guidelines and Discount Rates for Benefit-Cost Analysis of Federal Programs), and OMB Circular A-4 (Regulatory Analysis).

³ Applicants are encouraged to reference Sections 1 and 2 of the TIGER Benefit-Cost Analysis Resource Guide for recommended values to use in monetizing benefits and costs of transportation projects. This Resource Guide was developed by the U.S. Department of Transportation for use in the TIGER Discretionary Grant program and can be located on the FY14 Application Solicitation homepage at www.fra.dot.gov/Page/P0701.

Applications for positive train control implementation projects will be reviewed by panels of DOT subject-matter experts against the following three evaluation criteria.

PTC Deployment Benefits

The following factors will be considered in assessing a proposed project's achievement of PTC deployment benefits:

• The degree to which the successful implementation of the proposed idea would advance the technical deployment of PTC, including improvements to reliability, safety, security, and maintainability, among others issues; and

• The degree to which the successful implementation of the proposed idea would decrease PTC implementation and maintenance costs.

Technical Merit

The following factors will be considered in assessing a proposed project's technical merit:

• The degree to which proposed ideas exhibit a sound scientific and engineering basis;

• How well the proposed ideas could be practically applied in, and would be compatible with, the railroad environment; and

• The perceived likelihood of technical and practical success.

Project Development Approach

The following factors will be considered in assessing how the proposed project was planned and developed to date:

• The technical qualifications and demonstrated experience of key personnel proposed to lead and perform the technical efforts, and qualifications of primary and supporting organizations to fully and successfully execute the proposal plan within proposed timeframe and budget;

• The degree to which proposed effort is supported by multiple entities (letters of support are encouraged);

• The affordability and degree to which the proposed effort appears to be a good value for the amount of funding requested;

• The reasonableness and realism of the proposed costs; and

• The extent of proposed cost sharing or cost participation under the proposed effort (exclusive of the applicant's prior investment).

All evaluation criteria, when combined, are significantly more important than cost or price alone. Technical merit is appreciably more important than cost or price and, as such, greater consideration will be given to technical excellence rather than cost or price alone. An offer must be found acceptable under all applicable evaluation factors to be considered eligible for award. Awards will be made to applicants whose offers provide the best value to the Government in terms of technical excellence, cost or price, and performance risk to include consistency and accord with the objectives of the solicitation and FRA's expressed areas of interest.

3.3 Passenger Rail Corridor Investment Plans

3.3.1 Applicant Eligibility

The following entities are eligible applicants for Passenger Rail Corridor Investment Plan projects:

• States (including the District of Columbia);

• Groups of States;

• Interstate compacts; and

• Public agencies established by one or more States and having responsibility for providing intercity passenger rail service.

3.3.2 Project Eligibility

Passenger Rail Corridor Investment Plans consist of two distinct components: (1) A service development plan and (2) corridor-wide environmental documentation. Applicants requesting funding to develop a Passenger Rail Corridor Investment Plan must apply for any necessary work to develop both elements, the service development plan and corridor-wide environmental documentation. If the applicant has already completed one of these documents or a component thereof, FRA must have accepted that document as meeting the minimum requirements in order for the applicant to receive a grant to complete the remaining component(s). Similarly, applicants that have either already completed or are in the process of developing elements of a Passenger Rail Corridor Investment Plan through an FRA grant may request additional Federal funding to expand the scope or geographic study area of the existing planning effort. However, any additional funding requested must result in a fully completed Passenger Rail Corridor Investment Plan. Additionally, pursuant to the FY14 Omnibus, corridor planning improvements grants are only available for passenger rail corridors that are not covered by a Tier 1 Environmental Impact Statement completed within the last ten years (since January 17, 2004). Further guidance on the required elements of a Passenger Rail Corridor Investment Plan is available on the FY14 Grant Application Solicitation homepage at www.fra.dot.gov/Page/P0701.

3.3.3 Non-Federal Match Requirements

The $19,827,500 made available by the FY14 Omnibus is the only source of funding contained in this notice under which Passenger Rail Corridor Investment Plans may be funded. The FY14 Omnibus required that the Secretary of Transportation make no less than $20,000,000 available for corridor planning. Although this requirement has already been met by the Department allocating $22,000,000 to complete NEC FUTURE (as described in Section 1.2 of this notice), the FRA intends to award funds from the $19,827,500 remaining for additional meritorious planning projects. The FY14 Omnibus allows for an up to 80 percent Federal share of project costs. The required 20 percent non-Federal match may be composed of public sector (state or local) or private sector funding. However, the FRA cannot consider any other Federal funds, nor any non-Federal funds already expended (or otherwise encumbered), towards the matching requirement. Additionally, FRA is limiting the method for calculating the non-Federal match to cash contributions only—“in-kind” contributions will not be accepted. Matching funds provided in excess of the minimum requirements will be considered in evaluating the merit of an application.

3.3.4 Evaluation and Selection Criteria

The FRA intends to award funds to Passenger Rail Corridor Investment Plan projects that achieve the maximum public benefits possible, given the amount of funding available. Analysis provided by applicants that quantifies the monetary value (whenever possible) of the anticipated public benefits of the underlying projects of the Passenger Rail Corridor Investment Plan will be particularly relevant to the FRA in evaluating applications.⁴ The systematic process of comparing expected benefits and costs helps decision-makers organize information about, and evaluate trade-offs between, alternative transportation investments. The FRA will consider benefits and costs using standard data and qualitative information provided by applicants and will evaluate applications in a manner consistent with Executive Order 12893 (Principles for Federal Infrastructure Investments, 59 FR 4233), OMB Circular A-94 (Guidelines and Discount Rates for Benefit-Cost Analysis of Federal Programs), and OMB Circular A-4 (Regulatory Analysis).

⁴ Applicants are encouraged to reference Sections 1 and 2 of the TIGER Benefit-Cost Analysis Resource Guide for recommended values to use in monetizing benefits and costs of transportation projects. This Resource Guide was developed by the U.S. Department of Transportation for use in the TIGER Discretionary Grant program and can be located on the FY14 Application Solicitation homepage at www.fra.dot.gov/Page/P0701.

Applications for Passenger Rail Corridor Investment Plan projects will be reviewed by panels of DOT subject-matter experts against the following two evaluation criteria:

Potential Transportation and Other Public Benefits

The following factors will be considered in assessing a proposed project's potential achievement of transportation and other public benefits:

• The clarity and detail with which the applicant has identified the need to be addressed by the proposed service;

• The market potential of the corridor being studied, taking into consideration such factors as population demographics, density, economic activity, and travel patterns;

• The potential for the corridor investment to deliver high-speed and intercity passenger rail service benefits, including ridership, on-time performance reliability, travel time, service frequencies, safety, and other factors;

• The extent to which the Passenger Rail Corridor Investment Plan will examine and evaluate non-transportation issues that could provide public benefits, including but not limited to land use, economic development, energy efficiency and environmental quality, transportation network resilience, social equity and environmental justice, and strengthening opportunities for upward socioeconomic mobility; and

• The consideration and integration of other transportation modes in the planning process and the proposed service's ability to foster a safe, connected, accessible transportation system for the multimodal movement of people and goods.

Future Program Viability and Sustainability

The following factors will be considered in assessing the potential viability and sustainability of the intercity passenger rail service under consideration in the Passenger Rail Corridor Investment Plan:

• The likelihood that the final deliverables (service development plan and environmental decision document) will be completed and of sufficient quality to be implemented upon completion of the proposed cooperative agreement;

• The demonstrated institutional commitment of the State and all other key stakeholders to quickly execute the program once planning is complete;

• The degree to which the planning process meaningfully incorporates input from affected communities, local governments, regional councils and planning organizations, neighboring States, railroads, transportation modal partners, environmental interests, workforce investment boards, the public and other stakeholders—early and throughout the process;

• The level of support demonstrated for the application, proposed study, and underlying projects from key project partners (letters of support are encouraged);

• The likelihood that the corridor(s) being studied can yield measurable service and public benefits in a reasonable period of time; and

• The demonstrated ability of the applicant and other project partners to support the future capital and operating needs of the corridor(s) being studied.

3.4 Selection Criteria

In addition to the evaluation criteria outlined above that is unique for each of the three project types covered by this notice, the FRA Administrator will apply the following selection criteria to further ensure that the projects selected for funding advance FRA's current mission and key priorities

Alignment with the DOT Strategic Goals and Priorities

• Improving transportation safety;

• Maintaining transportation infrastructure in a state of good repair;

• Promoting economic competitiveness;

• Advancing environmentally sustainable transportation policies;

• Furthering the six “Livability Principles” developed by DOT with the Department of Housing and Urban Development and the Environmental Protection Agency as part of the Partnership for Sustainable Communities;⁵

⁵ http://www.sustainablecommunities.gov.

• Enhancing quality of life; and

• Building ladders of opportunity to expand the middle class. Proposed projects and planning studies that demonstrate the ability to provide reliable, safe and affordable transportation choices to connect economically disadvantaged populations, non-drivers, senior citizens, and persons with disabilities in disconnected communities with employment, training and education will receive particular consideration during project selection.

Project Delivery Performance

• The applicant's track record in successfully delivering previous FRA and DOT grants on time, on budget, and for the full intended scope;

• The applicant's means for achieving satisfactory continuing control over project assets in a timely manner, including, but not limited to, public ownership of project assets or agreements with railroad operators and infrastructure owners at the time of application; and

• The extent to which the proposed project complements previous FRA or DOT awards.

Region/Location

• The extent to which the proposed project increases the economic productivity of land, capital, or labor at specific locations, particularly in economically distressed areas;

• Ensuring appropriate level of regional balance across the country;

• Ensuring consistency with national transportation and rail network objectives; and

• Ensuring integration with other rail services and transportation modes.

Innovation/Resource Development

• Pursuing new rail technologies that result in favorable public return on investment and ensure delivery of project benefits;

• Promoting innovations that demonstrate the value of new approaches to, among other things, transportation funding and finance, contracting, project delivery, congestion management, safety management, asset management, or long-term operations and maintenance;

• Advancing the state of the art in modeling techniques for assessing costs and benefits;

• Promoting domestic manufacturing, supply, and industrial development; and

• Developing professional railroad engineering, operating, planning, and management capacity.

Partnerships

• For projects that span multiple jurisdictions (States or local governments), emphasizing those that have organized multi-jurisdictional partnerships with joint planning and prioritization of investments;

• Strengthening human capital and workforce opportunities, particularly for low-income workers or for people in economically distressed areas;

• Employing creative approaches to ensure workforce diversity and use of disadvantaged and minority business enterprises, including opportunities for small businesses and disadvantaged business enterprises, including veteran-owned small businesses and service-disabled veteran-owned small businesses; and

• Engaging local communities and other stakeholder groups in the project in a way that offers an opportunity for meaningful engagement in the process.

Section 4: Application and Submission Information

4.1 Submission Dates and Times

Complete applications must be submitted to Grants.gov no later than 5:00 p.m. EDT, September 15, 2014. Applicants are strongly encouraged to apply early to ensure that all materials are received before this deadline.

4.2 Application Procedures

To apply for funding through Grants.gov, applicants must be properly registered. Complete instructions on how to register and submit an application can be found at Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

In order to apply for funding under this announcement and to apply for funding through Grants.gov, all applicants are required to complete the following:

1. Acquire a DUNS Number. A Data Universal Numbering System (DUNS) number is required for Grants.gov registration. The Office of Management and Budget requires that all businesses and nonprofit applicants for Federal funds include a DUNS number in their applications for a new award or renewal of an existing award. A DUNS number is a unique nine-digit sequence recognized as the universal standard for identifying and keeping track of entities receiving Federal funds. The identifier is used for tracking purposes and to validate address and point of contact information for Federal assistance applicants, recipients, and sub recipients. The DUNS number will be used throughout the grant life cycle. Obtaining a DUNS number is a free, one-time activity. Applicants may obtain a DUNS number by calling 1-866-705-5711 or by applying online at http://www.dnb.com/us.

2. Acquire or Renew Registration with the System for Award Management (SAM) Database. All applicants for Federal financial assistance must maintain current registrations in the System for Award Management (SAM) database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status, so it is critical to check registration status well in advance of the application deadline. Information about SAM registration procedures can be accessed at www.sam.gov.

3. Acquire an Authorized Organization Representative (AOR) and a Grants.gov Username and Password. Applicants must complete an AOR profile on Grants.gov and create a username and password. Applicants must use the organization's DUNS number to complete this step. Additional information about the registration process is available at www.grants.gov/applicants/get_registered.jsp.

4. Acquire Authorization for your AOR from the E-Business Point of Contact (E-Biz POC). The Applicant's E-Biz POC must log in to Grants.gov to confirm a representative as an AOR. Please note that there can be more than one AOR at an organization.

5. Search for the Funding Opportunity on Grants.gov. The Catalog of Federal Domestic Assistance (CFDA) number for this opportunity is 20.314, titled “Railroad Development.”

6. Submit an Application Addressing All of the Requirements Outlined in this Funding Availability Announcement. After submitting the application through Grants.gov, a confirmation screen will appear on the applicant's computer screen. This screen will confirm that the applicant has submitted an application and provide a tracking number to track the status of the submission. Within 24 to 48 hours after submitting an electronic application, an applicant should receive an email validation message from Grants.gov. The validation message will explain whether the application has been received and validated or rejected, with an explanation. Applicants are urged to submit an application at least 72 hours prior to the due date of the application to allow time to receive the validation message and to correct any problems that may have caused a rejection notification.

If an applicant experiences difficulties at any point during this process, please call the Grants.gov Customer Center Hotline at 1-800-518-4726, 24 hours a day, 7 days a week (closed on Federal holidays).

Note: Please use generally accepted formats such as .pdf, .doc, .docx, .xls, .xlsx and .ppt, when uploading attachments. While applicants may imbed picture files, such as .jpg, .gif, and .bmp, in document files, please do not submit attachments in these formats. Additionally, the following formats will not be accepted: .com, .bat, .exe, .vbs, .cfg, .dat, .db, .dbf, .dll, .ini, .log, .ora, .sys, and .zip.

4.3 Content of Application

Required documents for the application package are outlined in the checklist below. Applicants are encouraged to visit the FY14 Grant Application Solicitation homepage on the FRA Web site to download the required Statement of Work template, FRA's Additional Assurances and Certifications, and the OMB Standard Forms. The FY14 Application Solicitation homepage also contains additional guidance on the application package and other relevant topics. The FY14 Grant Application Solicitation homepage is located at www.fra.dot.gov/Page/P0701. Detailed requirements for completing the Project Narrative are located below in Section 4.3.1. Brief overviews of the Statement of Work and Spatial Data submission requirements are provided in Sections 4.3.2 and 4.3.3, respectively.

Documents | Project Type: Grade Crossing improvements | Project Type: PTC | Project Type: Corridor investment plans
FRA Forms
☐ Project Narrative (see 4.3.1) | ✓ | ✓ | ✓
☐ Statement of Work (see 4.3.2) | ✓ | ✓ | ✓
☐ Spatial Data (see 4.3.3) | ✓ |  | Optional
☐ FRA's Additional Assurances and Certifications | ✓ | ✓ | ✓
OMB Standard Forms
☐ SF 424: Application for Federal Assistance | ✓ | ✓ | ✓
☐ SF 424A: Budget Information-Non Construction |  | ✓ | ✓
☐ SF 424B: Assurances-Non Construction |  | ✓ | ✓
☐ SF 424C: Budget Information-Construction | ✓ |  |
☐ SF 424D: Assurances-Construction | ✓ |  |
☐ SF LLL: Disclosure of Lobbying Activities | ✓ | ✓ | ✓

Applicants must complete and submit all components of the application package. FRA welcomes the submission of other relevant supporting documentation that may have been developed by the applicant (planning, NEPA, engineering and design documentation, letters of support, etc.). In particular, applications accompanied by completed feasibility studies, environmental determinations, and cost estimates may be more favorably considered during the evaluation process, as they demonstrate that an applicant has a greater understanding of the scope and cost of the project.

Applicants should submit all application materials through Grants.gov. For any required or supporting application materials that an applicant is unable to submit via Grants.gov (such as oversized engineering drawings), an applicant may submit an original and two (2) copies to Mary Ann Mcnamara, Office of Program Delivery, Federal Railroad Administration, 1200 New Jersey Avenue SE., Mail Stop 20, Washington, DC 20590. However, due to delays caused by enhanced screening of mail delivered via the U.S. Postal Service, applicants are advised to use other means of conveyance (such as courier service) to assure timely receipt of materials.

4.3.1 Project Narrative

The following points describe the minimum content which will be required in the Project Narrative component of grant applications (additionally, FRA recommends that the Project Narrative generally adhere to the following outline). These requirements must be satisfied through a narrative statement submitted by the applicant, and may be supported by spreadsheet documents, tables, maps, drawings, and other materials, as appropriate. The Project Narrative may not exceed 25 pages in length (including any appendices). Applications containing Project Narratives that exceed this 25 page limitation will not be reviewed or considered for award.

The FRA recommends that applicants read this section carefully and submit all required information. In addition to the following nine standard elements that must be included in all Project Narratives, applications for intercity passenger rail grade crossing improvement projects have additional unique requirements that must be addressed in the Project Narrative. These additional requirements are outlined following the standard Project Narrative elements below:

1. Include a title page that lists the following elements in either a table or formatted list: project title, location (city, State, district), type of application (e.g. grade crossing improvement, positive train control implementation, Passenger Rail Corridor Investment Plan), the applicant organization name, the name of any co-applicants, and the amount of Federal funding requested and the proposed non-Federal match.

2. Designate a point of contact for the applicant and provide his or her name and contact information, including phone number, mailing address and email address. The point of contact must be an employee of an eligible applicant.

3. Indicate the amount of Federal funding requested, the proposed non-Federal match, and total project cost. Additionally, identify any other sources of Federal funds committed to the project, as well as any pending Federal requests. Make sure to also note if the requested Federal funding must be obligated or expended by a certain date due to dependencies or relationships with other Federal or non-Federal funding sources, related projects, or other factors. Finally, specify whether Federal funding has ever previously been sought for the project and not secured, and name the Federal program and fiscal year from which the funding was requested.

4. Explain how the applicant meets the respective applicant eligibility criteria for the type of funding requested, as outlined in Section 3 of this notice.

5. Provide a brief 4-6 sentence summary of the proposed project, capturing the transportation challenges the proposed project aims to address, as well as the intended outcomes and anticipated benefits that will result from the proposed project.

6. Include a detailed project description that expands upon the brief summary required above. This detailed description should provide, at a minimum, additional background on the transportation challenges the project aims to address, the expected users and beneficiaries of the project, the specific components and elements of the project, and any other information the applicant deems necessary to justify the proposed project. The detailed description should also clearly explain how the proposed project meets the respective project eligibility criteria for the type of funding requested, as outlined in Section 3 of this notice.

7. Include a thorough discussion of how the project meets all of the evaluation criteria for the respective project type, as outlined in Section 3 of this notice. Applicants should note that FRA reviews applications based upon the evaluation criteria. If an application does not sufficiently address the evaluation criteria, it is unlikely to be a competitive application. In responding to the criteria, applicants are reminded to clearly identify, quantify, and compare expected benefits and costs of proposed projects. The FRA understands that the level of detail and sophistication of analysis that should be expected for relatively small projects (i.e., those encouraged to be limited to under $3,000,000 in this notice) is less than for larger, multi-million dollar, investments.

8. Describe proposed project implementation and project management arrangements. Include descriptions of the expected arrangements for project contracting, contract oversight, change-order management, risk management, and conformance to Federal requirements for project progress reporting.

9. Describe anticipated environmental or historic preservation impacts associated with the proposed project (or underlying projects for Passenger Rail Corridor Investment Plans), any environmental or historic preservation analyses that have been prepared, and progress toward completing any environmental documentation or clearance required for the proposed project under the National Environmental Policy Act (NEPA), the National Historic Preservation Act (NHPA), section 4(f) of the DOT Act, the Clean Water Act, or other applicable Federal or State laws. Applicants and grantees under FRA's financial assistance programs are encouraged to contact FRA and obtain preliminary direction regarding the appropriate NEPA class of action and required environmental documentation. Generally, projects will be ineligible to receive funding if they have begun construction activities prior to the applicant/grantee receiving written approval from FRA that all environmental and historical analyses have been completed. Additional information regarding FRA's environmental processes and requirements can be located on the FY14 Grant Application Solicitation homepage at www.fra.dot.gov/Page/P0701.

Additional Project Narrative Requirements for Intercity Passenger Rail Grade Crossing Improvement Applications

In addition to the nine standard Project Narrative elements required above, applicants for intercity passenger rail grade crossing improvement projects must specify the following location and crossing characteristics of the proposed grade crossing project (if the proposed project involves multiple crossings, the following information must be provided for each crossing):

• Locality—City/town, county, and cross streets;

• Right-of-Way Owner—Railroad right-of-way owner/host railroad, railroad milepost number, and DOT crossing inventory number;

• Crossing Characteristics—Number of railroad tracks, number of roadway traffic lanes, existing traffic control devices, average annual daily traffic (and year calculated), volume of truck traffic, and the history of train-vehicle and train-pedestrian accidents at the crossing (including fatalities);

• Rail Service Characteristics—Existing and planned rail services within the project boundaries (freight, commuter, and intercity passenger rail service), name of the corresponding service operators, existing and planned top operating speeds, and average number of daily one-way train operations (i.e. one daily round trip should be counted as two daily one-way operations); and

• Areas of significant concern—Schools, hospitals, first responders, or other emergency services providers in the vicinity of the crossing.

4.3.2 Statement of Work

Applicants are required to submit a Statement of Work (SOW) that addresses the scope, schedule, and budget for the proposed project if it were to be selected for award. The SOW should contain sufficient detail so that both FRA and the applicant can understand the expected outcomes of the proposed work to be performed and monitor progress toward completing project tasks and deliverables during a prospective grant's period of performance. The FRA has developed SOW templates for each of the three project types covered under this notice that applicants must adhere to if they wish to be considered for award. The SOW templates are located on the FY14 Grant Application Solicitation homepage at www.fra.dot.gov/Page/P0701.

4.3.3 Spatial Data

Applicants for intercity passenger rail grade crossing improvement projects are required to submit spatial data concerning their proposed projects to the FRA. This data allows the FRA to quickly orient the locations of grade crossings on the railroad and surrounding environment, and will assist the FRA in the review of applications. While not required, applicants for Passenger Rail Corridor Investment Plans are also encouraged to submit spatial data for any potential routes under consideration in the planning study, if known. Spatial data must be submitted to the FRA through grants.gov in either shapefile or Keyhole Markup Language (KML) file formats, utilizing the World Geodetic System (WGS) 84 datum standard. Additional guidance and instructions concerning the submission of spatial data is available on the FY14 Grant Application Solicitation homepage at www.fra.dot.gov/Page/P0701.

Section 5: Award Administration Information

5.1 Award Notices

Applications selected for funding will be announced after the application review period. FRA will contact applicants with successful applications after announcement with information and instructions about the award process. Notification of a selected application is not an authorization to begin proposed project activities.

The period of performance for grants awarded under this notice is dependent upon the project and will be determined on a grant-by-grant basis. Extensions to the period of performance will be considered only through written requests to the FRA with specific and compelling justifications for why an extension is required. Any obligated funding that has not been spent by the grantee and reimbursed by the FRA upon completion of the grant will be deobligated.

5.2 Administrative and National Policy Requirements

The grantee and any subgrantee must comply with all applicable laws and regulations. A non-exclusive list of administrative and national policy requirements that grantees must follow includes: Procurement standards, compliance with Federal civil rights laws and regulations, disadvantaged business enterprises (DBE), debarment and suspension, drug-free workplace, FRA's and OMB's Assurances and Certifications, Americans with Disabilities Act (ADA), labor standards, safety oversight, environmental protection, National Environmental Policy Act (NEPA), environmental justice, and Buy America or Buy American provisions (as applicable).

5.3 General Requirements

The grantee must comply with all post-award reporting, auditing, monitoring, and close-out requirements, as described on the FY14 Grant Application Solicitation homepage at www.fra.dot.gov/Page/P0701.

Section 6: Agency Contact

For further information regarding this notice and the grants program, please contact Mary Ann McNamara, Office of Program Delivery, Federal Railroad Administration, 1200 New Jersey Avenue SE., Mail Stop 20, Washington, DC 20590; Email: maryann.mcnamara@dot.gov; Phone: (202) 493-6393; Fax: (202) 493-6333.

Authority: Sec. 192, Pub. L. 113-76, 128 Stat. 603; Pub. L. 111-117, 123 Stat. 3056-57; Pub. L. 111-8, 123 Stat. 934-5; Pub. L. 110-161, 121 Stat. 2393-4.

Corey Hill,
Director, Office of Program Delivery.

[FR Doc. 2014-16172 Filed 7-10-14; 8:45 am]

BILLING CODE 4910-06-P